DEPARTMENT OF HEALTH AND HUMAN SERVICES

Request for Public Comment on Nominations and Call for Additional Nominations to the Report on Carcinogens

AGENCY: Division of the National Toxicology Program (DNTP), National Institute of Environmental Health Sciences (NIEHS); National Institutes of Health (NIH).

ACTION: Request for Public Comment and Call for Nominations.

SUMMARY: The NTP requests comments on several substances, mixtures, and exposure circumstances (collectively referred to as “substances”) nominated for possible review for future editions of the Report on Carcinogens (RoC). The NTP also invites the nomination of additional substances.

DATES: The deadline for submission of public comments on the nominated substances is February 28, 2012; comments submitted after this date will be considered as time permits. There is no deadline for submission of new nominations.

ADDRESSES: Comments should be sent to Dr. Ruth Lunn, Director, Office of the RoC, DNTP, NIEHS, P.O. Box 12233, MD K2-14, Research Triangle Park, NC 27709; telephone (919) 316-4637; Fax: (919) 541-0144; lunn@niehs.nih.gov. Courier address: NIEHS, Room 2138, 530 Davis Drive, Morrisville, NC 27560.

FOR FURTHER INFORMATION CONTACT: Dr. Ruth Lunn (telephone: (919) 316-4637 or email lunn@niehs.nih.gov).

SUPPLEMENTARY INFORMATION:

Background Information on the RoC

The RoC is a congressionally mandated document that identifies and discusses substances that may pose a hazard to human health by virtue of their carcinogenicity. Substances are listed in the report as either known or reasonably anticipated human carcinogens. The NTP prepares the RoC on behalf of the Secretary of Health and Human Services following a formal, multi-step process for review and evaluation of selected substances. The evaluation process was recently revised and the final process is available on the RoC Web site (http://ntp.niehs.nih.gov/go/rocprocess). Information about the RoC is available on the RoC Web site (http://ntp.niehs.nih.gov/go/roc) or by contacting Dr. Lunn (see FOR FURTHER INFORMATION CONTACT).

Request for Public Comment on Nominations to the RoC

The NTP requests public comment on the substances listed below that have been nominated for possible review for future editions of the RoC (for more information, see http://ntp.niehs.nih.gov/go/rocnom). Specifically, the NTP requests information on each substance for the following topics: (1) Data on current production, use patterns, and human exposure, where relevant; (2) information about published, ongoing, or planned studies related to evaluating carcinogenicity; (3) scientific issues important for assessing carcinogenicity of the substance; and (4) names of scientists with expertise or knowledge about the substance. Please include any available bibliographic citations for the information. The NTP will use this information for identifying nominated substances to propose for formal evaluation for the RoC.

Persons submitting public comments are asked to include their name, contact information, affiliation, and sponsoring organization (if any) and to send them to Dr. Lunn (see ADDRESSES above). All information received will be posted on the RoC Web site and the submitter identified by name, affiliation, and sponsoring organization, if applicable. The deadline for submission of public comment is February 28, 2012. Comments and information received after that date will be added to the public record and used by the NTP, as time permits, in considering whether to propose a substance for evaluation for the RoC.

Some Substances Nominated to the RoC*

• alkenylbenzenes (selected dietary: estragole, myristicin, isosafrole)

• 1-bromopropane

• carbon black

• cumene

• diesel exhaust particulates

• ethylbenzene

• Helicobacter pylori

• indium compounds

• iron (excess) or iron overload

• pentachlorophenol

• shiftwork involving light at night

• ortho-toluidine

• trichloroethylene

• uranium (depleted)

• viruses (selected): Kaposi's sarcoma—associated herpesvirus, Epstein-Barr virus (EBV), human T-cell lymphotropic virus type 1 (HTLV-1), human immunodeficiency virus (HIV), and Merkel cell polyomavirus

* Nominations to the RoC may seek to list a new substance in the report, reclassify the listing status of a substance already listed, or remove a listed substance.

Request for Additional Nominations to the RoC

The NTP solicits and encourages the broadest participation possible from interested individuals or parties in nominating substances for the RoC. A nomination may seek to list a new substance in the report, reclassify the listing status of a substance already listed, or remove a listed substance. Nominations should contain (1) a rationale or reason for the RoC review and, if possible, appropriate background information and relevant data to support the rationale (e.g., journal articles, NTP Technical Reports, International Agency for Research on Cancer listings, exposure surveys, or release inventories) and (2) the nominator's name, affiliation, contact information, and sponsoring organization (if any). Nominations should be sent to Dr. Lunn (see ADDRESSES) or submitted online via the NTP Web site (http://ntp.niehs.nih.gov/go/27911). There is no deadline for the submission of new nominations.

Dated: January 9, 2012.
John R. Bucher,
Associate Director, National Toxicology Program.

[FR Doc. 2012-875 Filed 1-18-12; 8:45 am]

BILLING CODE 4140-01-P